DEPARTMENT OF THE INTERIOR

Fish and Wildlife Service

[FWS-R4-ES-2014-N132; 40120-1112-0000-F2]

Incidental Take Permit for Hydrocarbon Exploration Well Pad Construction; Lamar County, Mississippi

AGENCY: Fish and Wildlife Service, Interior.

ACTION: Notice of availability; request for comments.

SUMMARY: Under the Endangered Species Act, we, the U.S. Fish and Wildlife Service, announce the receipt and availability of a proposed low-effect habitat conservation plan and accompanying incidental take permit (ITP) for take of the gopher tortoise incidental to construction of a hydrocarbon exploration well pad in Lamar County, Mississippi. We invite public comments on these documents.

DATES: We must receive any written comments at our Mississippi Field Office (see ADDRESSES) on or before August 4, 2014.

ADDRESSES: Obtaining Documents: Documents are available for public inspection by appointment during normal business hours at the Fish and Wildlife Service's Mississippi Field Office, 6578 Dogwood View Parkway, Jackson, MS 39213. Please submit comments by U.S. mail to the Fish and Wildlife Service's Mississippi Field Office.

Submitting Comments: For how to submit comments, see Public Comments in the SUPPLEMENTARY INFORMATION section.

FOR FURTHER INFORMATION CONTACT: Mr. David Felder, Fish and Wildlife Biologist (see ADDRESSES); telephone: 601-321-1131.

SUPPLEMENTARY INFORMATION:

Introduction

We announce the availability of the proposed low-effect habitat conservation plan (HCP) which analyzes the take of the threatened gopher tortoise (Gopherus polyphemus) incidental to construction of a hydrocarbon exploration well pad. The applicant (Tellus Operating Group, LLC) requests a 5-year ITP under section 10(a)(1)(B) of the Endangered Species Act (Act; 16 U.S.C. 1531 et seq.). If we approve the ITP, the applicant anticipates the taking of up to two individual gopher tortoises over the 5-year span of the ITP.

Applicant's Proposal

The applicant proposes to minimize and mitigate the take of two gopher tortoises by relocating the tortoises impacted by well pad construction to unoccupied burrows within the tortoise colony using Service-approved relocation methods. The relocated tortoises will be monitored for 6 months. The relocated tortoises will be on lands owned and managed by the applicant as a long-leaf pine forest, where prescribed burning is conducted on a one-to-two-year cycle. All fees associated with the relocation, monitoring, and future management of on-site tortoise habitat will be paid by Tellus Operating Group, LLC.

Service's Preliminary Determination

The Service has made a preliminary determination that the applicant's project, including the proposed mitigation and minimization measures, will individually and cumulatively, have a minor or negligible effect on the species covered in the HCP. Therefore, issuance of the ITP is a “low-effect” action and qualifies as a categorical exclusion under the National Environmental Policy Act (NEPA) (40 CFR 1506.6), as provided by the Department of the Interior Manual (516 DM 2 Appendix 1 and 516 DM 6 Appendix 1), and as defined in our Habitat Conservation Planning Handbook (November 1996).

We base our determination that issuance of the ITP qualifies as a low-effect action on the following three criteria: (1) Implementation of the project would result in minor or negligible effects on federally listed, proposed, and candidate species and their habitats; (2) Implementation of the project would result in minor or negligible effects on other environmental values or resources; and (3) Impacts of the plan, considered together with the impacts of other past, present, and reasonably foreseeable similarly situated projects, would not result, over time, in cumulative effects to environmental values or resources that would be considered significant. As more fully explained in our environmental action statement and associated Low-Effect Screening Form, the applicant's proposed project qualifies as a “low-effect” project. This preliminary determination may be revised based on our review of public comments that we receive in response to this notice.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE39407B-0 in such comments. You may mail comments to the Fish and Wildlife Service's Mississippi Field Office (see ADDRESSES). You may also comment via the internet to david_felder@fws.gov. Please include your name and return address in your internet message. If you do not receive a confirmation from us that we have received your internet message, contact us directly at either telephone number listed under FOR FURTHER INFORMATION CONTACT. Finally, you may hand-deliver comments to the office listed under ADDRESSES.

Covered Area

The area encompassed by the HCP and ITP application is the 4.85 acre hydrocarbon exploration well pad, located at latitude 31.068518, longitude—89.616833, Lamar County, Mississippi.

Next Steps

We will evaluate the ITP application, including the HCP and any comments we receive, to determine whether the application meets the requirements of section 10(a)(1)(B) of the Act. We will also evaluate whether issuance of a section 10(a)(1)(B) ITP complies with section 7 of the Act by conducting an intra-Service section 7 consultation. We will use the results of this consultation, in combination with the above findings, in our final analysis to determine whether or not to issue the ITP. If we determine that the requirements are met, we will issue the ITP for the incidental take of gopher tortoises.

Authority

We provide this notice under Section 10 of the Act (16 U.S.C. 1531 et seq.) and NEPA regulations (40 CFR 1506.6).

Dated: June 27, 2014.
Stephen Ricks,
Field Supervisor, Mississippi Field Office.

[FR Doc. 2014-15703 Filed 7-2-14; 8:45 am]

BILLING CODE 4310-55-P